DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 24, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Yavapai County, Arizona and Incorporated Areas
Docket No.: FEMA-B-2025
Town of Dewey-Humboldt | Yavapai County Flood Control District, 1120 Commerce Drive, Prescott, AZ 86305.
Town of Prescott Valley | Engineering Division, 7501 East Skoog Boulevard, 3rd Floor, Prescott Valley, AZ 86314.
Unincorporated Areas of Yavapai County | Yavapai County Flood Control District, 1120 Commerce Drive, Prescott, AZ 86305.
Stanislaus County, California and Incorporated Areas
Docket No.: FEMA-B-2036
City of Ceres | City Hall, 2220 Magnolia Street, Ceres, CA 95307.
City of Modesto | City Hall, 10th Street Place, 1010 10th Street, Modesto, CA 95354.
City of Newman | City Hall, 938 Fresno Street, Newman, CA 95360.
City of Patterson | City Hall, 1 Plaza Circle, 2nd Floor, Patterson, CA 95363.
Unincorporated Areas of Stanislaus County | Stanislaus County & City of Modesto Building, 1010 10th Street, Suite 3400, Modesto, CA 95354.
Pinellas County, Florida and Incorporated Areas
Docket No.: FEMA-B-1905
City of Belleair Beach | City Hall, 444 Causeway Boulevard, Belleair Beach, FL 33786.
City of Belleair Bluffs | City Hall, 2747 Sunset Boulevard, Belleair Bluffs, FL 33770.
City of Clearwater | Municipal Services Building, Engineering Department, 100 South Myrtle Avenue, Suite 220, Clearwater, FL 33756.
City of Dunedin | Community Development Building, 1415 Pinehurst Road, Unit F, Dunedin, FL 34698.
City of Gulfport | Community Development Department, 5330 23rd Avenue South, Gulfport, FL 33707.
City of Indian Rocks Beach | City Hall, 1507 Bay Palm Boulevard, Indian Rocks Beach, FL 33785.
City of Largo | City Hall, 201 Highland Avenue North, Largo, FL 33770.
City of Madeira Beach | Building Department, 300 Municipal Drive, Madeira Beach, FL 33708.
City of Oldsmar | City Hall, Planning and Redevelopment Department, 100 State Street West, Oldsmar, FL 34677.
City of Pinellas Park | Planning and Development Services, 6051 78th Avenue North, Pinellas Park, FL 33781.
City of Safety Harbor | Building Official's Department, 750 Main Street, Safety Harbor, FL 34695.
City of Seminole | City Hall, Community Development Department, 9199 113th Street, Seminole, FL 33772.
City of South Pasadena | Building Department, 6940 Hibiscus Avenue South, South Pasadena, FL 33707.
City of St. Pete Beach | City Hall, Building Department, 155 Corey Avenue, St. Pete Beach, FL 33706.
City of St. Petersburg | Municipal Services Center, 1 4th Street North, St. Petersburg, FL 33701.
City of Tarpon Springs | Building Department, 324 East Pine Street, Tarpon Springs, FL 34689.
City of Treasure Island | City Hall, Community Improvement Department, 120 108th Avenue, Treasure Island, FL 33706.
Town of Belleair | Town Hall, 901 Ponce de Leon Boulevard, Belleair, FL 33756.
Town of Belleair Shore | City Clerk's Office, 1200 Gulf Boulevard, Belleair Shore, FL 33786.
Town of Indian Shores | Building Department, 19305 Gulf Boulevard, Indian Shores, FL 33785.
Town of Kenneth City | Town Hall, 6000 54th Avenue North, Kenneth City, FL 33709.
Town of North Redington Beach | Town Hall, 190 173rd Avenue East, North Redington Beach, FL 33708.
Town of Redington Beach | Town Hall, 105 164th Avenue, Redington Beach, Florida 33708.
Town of Redington Shores | Town Hall, Building Department, 17425 Gulf Boulevard, Redington Shores, FL 33708.
Unincorporated Areas of Pinellas County | Pinellas County Building Department, 440 Court Street, Clearwater, FL 33756.
Gem County, Idaho and Incorporated Areas
Docket No.: FEMA-B-1969
City of Emmet | Public Works and Building Department, 601 East 3rd Street, Emmett, ID 83617.
Unincorporated Areas of Gem County | Gem County Development Services Department, 109 South McKinley Avenue, Emmett, ID 83617.
Wabaunsee County, Kansas and Incorporated Areas
Docket No.: FEMA-B-2018
City of Alma | City Hall, 326 Missouri Avenue, Alma, Kansas 66401.
City of Alta Vista | City Hall, 521 Main Street, Alta Vista, Kansas 66834.
City of Eskridge | City Hall, 110 South Main Street, Eskridge, Kansas 66423.
City of Harveyville | City Hall, 274 West Oak Street, Harveyville, Kansas 66431.
City of McFarland | City Hall, 518 Rock Island Road, McFarland, Kansas 66501.
City of Paxico | City Hall, 201 Newbury Avenue, Paxico, Kansas 66526.
Unincorporated Areas of Wabaunsee County | Wabaunsee County Courthouse, 215 Kansas Avenue, Alma, Kansas 66401.
Mason County, Michigan (All Jurisdictions)
Docket No.: FEMA-B-2009
Charter Township of Pere Marquette | Pere Marquette Charter Township Hall, 1699 South Pere Marquette Highway, Ludington, MI 49431.
City of Ludington | City Hall, 400 South Harrison Street, Ludington, MI 49431.
Township of Grant | Grant Township Hall, 835 West Hoague Road, Manistee, MI 49660.
Township of Hamlin | Hamlin Township Hall, 3775 North Jebavy Drive, Ludington, MI 49431.
Township of Summit | Summit Township Hall, 4879 West Deren Road, Ludington, MI 49431.
Oceana County, Michigan (All Jurisdictions)
Docket No.: FEMA-B-2009
Township of Benona | Benona Township Hall, 7169 West Baker Road, Shelby, MI 49455.
Township of Claybanks | Claybanks Township Hall, 7577 West Cleveland Road, New Era, MI 49446.
Township of Golden | Golden Township Hall, 5527 West Fox Road, Mears, MI 49436.
Township of Pentwater | Township Office, 500 North Hancock Street, Pentwater, MI 49449.
Township of Weare | Weare Township Hall, 6506 North Oceana Drive, Hart, MI 49420.
Village of Pentwater | Village Office, 327 South Hancock Street, Pentwater, MI 49449.
Snyder County, Pennsylvania (All Jurisdictions)
Docket No.: FEMA-B-1977
Borough of Selinsgrove | Borough Office, 1 North High Street, Selinsgrove, PA 17870.
Borough of Shamokin Dam | Municipal Building, 42 West 8th Avenue, Shamokin Dam, PA 17876.
Township of Chapman | Chapman Township Municipal Office, 1151 Wagner Hill Road, Port Trevorton, PA 17864.
Township of Monroe | Monroe Township Municipal Building, 39 Municipal Drive, Selinsgrove, PA 17870.
Township of Penn | Penn Township Municipal Building, 228 Clifford Road, Selinsgrove, PA 17870.
Township of Perry | Perry Town Hall, 18 Hoffman Hill Road, Mount Pleasant Mills, PA 17853.
Township of Union | Union Township Municipal Building, 1510 McNess Road, Port Trevorton, PA 17864.

[FR Doc. 2021-09632 Filed 5-7-21; 8:45 am]

BILLING CODE 9110-12-P